DEPARTMENT OF THE INTERIOR

National Park Service

[NPS-WASO-NAGPRA-NPS0038963; PPWOCRADN0-PCU00RP14.R50000]

Notice of Inventory Completion: The San Diego Archaeological Center, San Diego, CA

AGENCY: National Park Service, Interior.

ACTION: Notice.

SUMMARY: In accordance with the Native American Graves Protection and Repatriation Act (NAGPRA), the San Diego Archaeological Center has completed an inventory of human remains and has determined that there is a cultural affiliation between the human remains and Indian Tribes or Native Hawaiian organizations in this notice.

DATES: Repatriation of the human remains in this notice may occur on or after November 29, 2024.

ADDRESSES: Stephanie Sandoval, Executive Director, The San Diego Archaeological Center, 16666 San Pasqual Valley Road, Escondido, CA 92027, telephone (760) 291-0370, email sjsandoval@sandiegoarchaeology.org.

SUPPLEMENTARY INFORMATION: This notice is published as part of the National Park Service's administrative responsibilities under NAGPRA. The determinations in this notice are the sole responsibility of the San Diego Archaeological Center, and additional information on the determinations in this notice, including the results of consultation, can be found in the inventory or related records. The National Park Service is not responsible for the determinations in this notice.

Abstract of Information Available

Based on the information available, human remains representing at least one individual has been reasonably identified. No associated funerary objects have been identified. This site is in the northwest part of San Diego County near the City of Vista. The site (CA-SDI-5775) is on a property located at N3668457 E476305 and was surveyed 06/06/1978. The site was tested in June 1980 by CRM firms Mooney, Jones, and Stokes and in 1978 by RECON (M.J. Hatley and Carol Walker) as part of a cultural assessment program before development of the property. The report described the site as measuring about 50 meters north-south and 40 meters east-west, consisting of dark midden of at least 12-18 inches in depth with flaked lithic tools, flakes and debitage, faunal shell and bone, and ceramics. The collection was brought to the San Diego Archaeological Center on 08/26/2006 for curation. The human remains were identified while preparing the collection for permanent curation. To confirm that it was human, the bone was inspected by the San Diego County Office of the Medical Examiner. The items were removed from the collection and placed in the Center's NAGPRA Vault awaiting Tribal notification and possible repatriation following their determination that they were human.

Cultural Affiliation

Based on the information available and the results of consultation, cultural affiliation is reasonably identified by the geographical location or acquisition history of the human remains described in this notice.

Determinations

The San Diego Archaeological Center has determined that:

• The human remains described in this notice represent the physical remains of at least one individual of Native American ancestry.

• There is a reasonable connection between the human remains described in this notice and the La Jolla Band of Luiseno Indians; Pala Band of Mission Indians; Pauma Band of Luiseno Mission Indians of the Pauma & Yuima Reservation, California; Pechanga Band of Indians (previously listed as Pechanga Band of Luiseno Mission Indians of the Pechanga Reservation, California); Rincon Band of Luiseno Mission Indians of the Rincon Reservation, California; and the Soboba Band of Luiseno Indians, California.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after November 29, 2024. If competing requests for repatriation are received, the San Diego Archaeological Center must determine the most appropriate requestor prior to repatriation. Requests for joint repatriation of the human remains are considered a single request and not competing requests. The San Diego Archaeological Center is responsible for sending a copy of this notice to the Indian Tribes and Native Hawaiian organizations identified in this notice.

Authority: Native American Graves Protection and Repatriation Act, 25 U.S.C. 3003, and the implementing regulations, 43 CFR 10.10.

Dated: October 25, 2024
Melanie O'Brien,
Manager, National NAGPRA Program.

[FR Doc. 2024-25192 Filed 10-29-24; 8:45 am]

BILLING CODE 4312-52-P